DEPARTMENT OF COMMERCE

Economic Development Administration

Notice of Petitions by Producing Firms for Determination of Eligibility To Apply for Trade Adjustment Assistance

AGENCY: Economic Development Administration (EDA).

ACTION: To give firms an opportunity to comment.

Petitions have been accepted for filing on the dates indicated from the firms listed below.

Firm name | Address | Date petition accepted | Product
Ambu, Inc. | 611 N. Hammonds Ferry Rd. Linthicum, MD 21090 | 01/03/01 | Medical devices—resuscitation equipment and surgical collars.
Super Steel Products Corp | 7900 West Tower Avenue, Milwaukee, WI 53223 | 01/03/01 | Cabs, bodies and platforms of railroad locomotives, agricultural and construction equipment and industrial and electrical machinery.
Revelation Industries | 101 East Oak Street, Bozeman, MT 59715 | 01/03/01 | LED illuminated signs, circuit boards, power cabinets, and cables.
Covers Unlimited, Inc | 2205 Dutch Lane, Jeffersonville, IN 47130 | 01/18/01 | Boat tarpaulins, pillows, and upholstery.
Amendola General Woodwork Co., Inc | 529 Sherman Avenue, Hamden, CT 06514 | 01/18/01 | Wood furniture stock and components, wood flooring, humidors, wind chime components and wooden arms for lawn furniture.
Baker Microfarads, Inc | P.O. Box 697, Hillsville, VA 24343 | 01/18/01 | Aluminum electrolytic capacitors.
Doyle Enterprises, Inc | 4330 Truevine Road, Rocky Mount, VA 24151 | 01/24/01 | Knit active wear—pants and sweatshirts.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: January 19, 2001.
Anthony J. Meyer,
Coordinator, Trade Adjustment and Technical Assistance.

[FR Doc. 01-2739 Filed 1-31-01; 8:45 am]

BILLING CODE 3510-24-U